DEPARTMENT OF AGRICULTURE

Rural Utilities Service

Georgia Transmission Corporation; Notice of Finding of No Significant Impact

AGENCY: Rural Utilities Service, USDA.

ACTION: Notice of finding of no significant impact.

SUMMARY: Notice is hereby given that the Rural Utilities Service (RUS) has made a finding of no significant impact (FONSI) with respect to possible financing assistance to Georgia Transmission Corporation for the construction of a 500/230 kV Substation in Mitchell County, Georgia.

FOR FURTHER INFORMATION CONTACT: Bob Quigel, Environmental Protection Specialist, Engineering and Environmental Staff, RUS, Stop 1571, 1400 Independence Avenue, SW., Washington, DC 20250-1571, telephone (202) 720-0468, e-mail at bquigel@rus.usda.gov.

SUPPLEMENTARY INFORMATION: The project is to be named the Raccoon Creek Substation. It will provide for the interconnection of the existing 500 kV Farley to North Tipton and 230 kV Mitchell to Thomasville transmission lines. The site location for the substation is at the intersection of Jackson Dairy Road and Stagecoach Road in northwest Mitchell County. The size of the site is 110 acres. The fenced area for the substation will be approximately 25 acres. The land use at the site is agricultural field.

Copies of the FONSI are available for review at, or can be obtained from, RUS at the address provided herein or from Mr. John Lasseter, Georgia Transmission Corporation, 2100 East Exchange Place, Tucker, Georgia 30085-2088, telephone (770) 270-7710. Mr. Lasseter's e-mail address is john.lasseter@gatrans.com.

Dated: May 21, 2001.
Sylvia M. Green,
Acting Assistant Administrator, Electric Program.

[FR Doc. 01-13825 Filed 5-31-01; 8:45 am]

BILLING CODE 3410-15-P